DEPARTMENT OF COMMERCE

Submission for OMB Review; Comment Request

The Department of Commerce (DOC) has submitted to the Office of Management and Budget (OMB) for clearance the following proposal for collection of information under provisions of the Paperwork Reduction Act (44 U.S.C. chapter 35).

Agency: Bureau of Industry and Security (BIS).

Title: Export License Services—Transfer of License Ownership, Requests for a Duplicate License.

Agency Form Number: None.

OMB Approval Number: 0694-0126.

Type of Request: Extension of a currently approved collection.

Burden: 38 hours.

Average Time Per Response: 1 to 15 minutes per response.

Number of Respondents: 200 respondents.

Needs and Uses: In certain circumstances (i.e., company mergers, takeovers, etc.), it is necessary to transfer ownership of licenses to another party, or in instances where records are lost or destroyed, to issue a duplicate license. In the case of a transfer of ownership, the information collected is necessary to ensure that all parties are aware of and agree to the transfer, both of the ownership as well as responsibilities associated with export authorizations. The issuance of a duplicate requires that certain actions be taken if the original license is found. Both are services to exporters provided to the public after export licenses have been issued.

Affected Public: Individuals, businesses or other for-profit institutions.

Respondent's Obligation: Required to obtain or retain a benefit.

OMB Desk Officer: David Rostker.

Copies of the above information collection proposal can be obtained by calling or writing Diana Hynek, DOC Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: July 6, 2006.
Madeleine Clayton,
Management Analyst, Office of the Chief Information Officer.

[FR Doc. E6-10902 Filed 7-11-06; 8:45 am]

BILLING CODE 3510-DT-P